DEPARTMENT OF THE TREASURY

Internal Revenue Service

Open Meeting of the Taxpayer Advocacy Panel's Notices and Correspondence Project Committee: Change

AGENCY: Internal Revenue Service (IRS), Treasury.

ACTION: Notice of meeting: Change.

SUMMARY: In the Federal Register that was originally published on May 13, 2024, this meeting was scheduled for June 19, 2024, at 11:00a.m. Eastern Time. The meeting date is being changed to, June 18, 2024, at 11:00 a.m. Eastern Time. All other meeting details remain unchanged. This meeting will be held via teleconference.

DATES: The meeting will be held Tuesday, June 18, 2024.

FOR FURTHER INFORMATION CONTACT: Robert Rosalia at 1-888-912-1227 or (718) 834-2203.

SUPPLEMENTARY INFORMATION: Notice is hereby given pursuant to section 10(a)(2) of the Federal Advisory Committee Act, 5 U.S.C. App. (1988) that an open meeting of the Taxpayer Advocacy Panel's Notices and Correspondence Project Committee will be held Tuesday, June 18, 2024, at 11:00 a.m. Eastern Time. The public is invited to make oral comments or submit written statements for consideration. Due to limited time and structure of meeting, notification of intent to participate must be made with Robert Rosalia. For more information, please contact Robert Rosalia at 1-888-912-1227 or (718) 834-2203, or write TAP Office, 2 Metrotech Center, 100 Myrtle Avenue, Brooklyn, NY 11201 or contact us at the website: http://www.improveirs.org. The agenda will include TAP 2024 committee project focus areas.

Dated: May 31, 2024.
Shawn Collins,
Director, Taxpayer Advocacy Panel.

[FR Doc. 2024-12378 Filed 6-5-24; 8:45 am]

BILLING CODE 4830-01-P